DEPARTMENT OF ENERGY

Federal Energy Regulatory Commission

[Docket No. RD14-7-000]

Commission Information Collection Activities (Ferc-725y); Comment Request

AGENCY: Federal Energy Regulatory Commission.

ACTION: Comment request.

SUMMARY: In compliance with the requirements of the Paperwork Reduction Act of 1995, 44 U.S.C. 3507(a)(1)(D), the Federal Energy Regulatory Commission (Commission or FERC) is submitting the information collection FERC-725Y, Mandatory Reliability Standard PER-005-2 (Operations Personnel Training), to the Office of Management and Budget (OMB) for review of the information collection requirements. Any interested person may file comments directly with OMB and should address a copy of those comments to the Commission as explained below. The Commission solicited comments on the information collection associated with PER-005-2 in an order published in the Federal Register (79 FR 36305, 6/26/2014). FERC received no comments on the information collection and is making this notation in its submission to OMB.

DATES: Comments on the collection of information are due by October 8, 2014.

ADDRESSES: Comments filed with OMB, identified by collection FERC-725Y, should be sent via email to the Office of Information and Regulatory Affairs: oira_submission@omb.gov, Attention: Federal Energy Regulatory Commission Desk Officer. The Desk Officer may also be reached via telephone at 202-395-4718.

A copy of the comments should also be sent to the Federal Energy Regulatory Commission, identified by the Docket No. RD14-7-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION: Ellen Brown may be reached by email at DataClearance@FERC.gov, by telephone at (202) 502-8663, and by fax at (202) 273-0873.

SUPPLEMENTARY INFORMATION:

Title: FERC-725Y,¹ Mandatory Reliability Standard PER-005-2 (Operations Personnel Training).

¹ In the Order issued 6/19/2014, the proposed information collection was included in FERC-725A (Mandatory Reliability Standards for the Bulk-Power System) under OMB Control No. 1902-0244. In this notice and the related Paperwork Reduction Act package to be submitted to the Office of Management and Budget for review and approval, the information collection will be included in a new FERC-725Y (rather than FERC-725A).

OMB Control No.: To Be Determined.

Type of Request: Three-year approval of the FERC-725Y information collection requirements.

Abstract: Reliability Standard PER-005-2 (Operations Personnel Training Standard) implements the Congressional mandate of the Energy Policy Act of 2005 to develop mandatory and enforceable Reliability Standards to better ensure the reliability of the nation's Bulk-Power System. Specifically, the purpose of PER-005-2 ² is to ensure that personnel performing or supporting real-time operations on the Bulk Electric System (BES) are trained using a systematic approach. The Reliability Standard requires entities to maintain records subject to review by the Commission and NERC to ensure compliance with the Reliability Standard.

² Reliability Standard PER-005-2 expands the scope of the current Reliability Standard in order to address the Commission's directives in Order Nos. 693 and 742.

PER-005-2 contains six Requirements:

• R1 requiring reliability coordinators, balancing authorities, and transmission operators to develop and implement a training program for system operators

• R2 requiring transmission owners to develop and implement a training program for system operators

• R3 requiring reliability coordinators, balancing authorities, transmission operators and transmission owners to verify the capabilities of their identified personnel

• R4 requiring reliability coordinators, balancing authorities, transmission operators and transmission owners to provide those personnel with emergency operations training using simulation technology

• R5 requiring reliability coordinators, balancing authorities, and transmission operators to develop and implement training for their operations support personnel

• R6 requiring applicable generator operators to develop and implement training for certain of their dispatch personnel at a centrally located dispatch center.

Type of Respondents: Reliability coordinators, balancing authorities, transmission operators, transmission owners, and generator owners.

Estimate of Annual Burden ³: Our estimate below regarding the number of respondents is based on the NERC compliance registry as of April 30, 2014. According to the NERC compliance registry, NERC has registered 15 reliability coordinators, 107 balancing authorities, 182 transmission operators, 337 transmission owners and 848 generator operators. However, under NERC's compliance registration program, entities may be registered for multiple functions, so these numbers incorporate some double counting. The number of unique entities responding will be approximately 387 entities registered as a reliability coordinator, balancing authority, transmission operator, transmission owner, or generator operator.

³ Burden is defined as the total time, effort, or financial resources expended by persons to generate, maintain, retain, or disclose or provide information to or for a Federal agency. For further explanation of what is included in the information collection burden, reference 5 Code of Federal Regulations 1320.3.

The Commission estimates the additional annual reporting burden and cost as follows:

⁴ TO=Transmission Owner; RC=Reliability Coordinator; BA=Balancing Authority; TOP=Transmission Operator; GOP=Generator Operator.

⁵ The estimated hourly costs (salary plus benefits) are based on Bureau of Labor and Statistics (BLS) information (available at http://bls.gov/oes/current/naics3_221000.htm#17-0000) for an electrical engineer ($59.62/hour for review and documentation), and for a file clerk ($28.95/hour for record retention).

⁶ Not all transmission owners are expected to have personnel who will be subject to the revised personnel training requirements, but this estimate conservatively includes all registered TOs. The same approach is taken with respect to generator operators.

⁷ Some transmission owners are also generator operators. To eliminate double counting some entities, this figure reflects the number of unique entities (1,050) within the group of TOs and GOPs. That approach is used throughout the table.

FERC-725Y, as Implemented in Docket No. RD14-7
| Number and type of respondents ⁴ | Annual number of responses per respondent | Total number of responses | Average burden and cost per response ⁵ | Total annual burden hours and total annual cost | Cost per respondent
| (1) | (2) |  | (3) | (1) × (2) × (3)
(One-time) Development of a training program and materials, and task list [R2] | TO (337) ⁶ | 1 | 337 | 15 hrs. and $59.62/hour | 5,055 hours and $301,379.10 | $894.30
(One-time) Development of a training program [R5] | RC, BA, TOP (216) | 1 | 216 | 15 hrs. and $59.62/hour | 3,240 hours and $193,168.80 | 894.30
(One-time) Development of a training program [R6] | GOP (848) | 1 | 848 | 15 hrs. and $59.62/hour | 12,720 hours and $758,366.40 | 894.30
(Ongoing) Annual Evaluation and update of training program and task list [R2 and R6] | TO (337), GOP (848) | 1 | ⁷ 1,050 | 6 hrs. and $59.62/hour | 6,300 hours and $375,606 | 357.72
(Ongoing) Retention of records [M2, M6, and C.1.3] | TO (337), GOP (848) | 1 | 1,050 | 10 hrs. and $28.95/hour | 10,500 hrs. and $303,975 | 289.50
(Ongoing) Verification and retention of evidence of capabilities of personnel [R3, M3, C1.3], and creation and retention of records on simulation training [R4 and M4] | TO (337) | 1 | 337 | 10 hrs. and $28.95/hour | 3,370 hrs. and $97,561.50 | 289.50

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: August 29, 2014.
Kimberly D. Bose,
Secretary.

[FR Doc. 2014-21207 Filed 9-5-14; 8:45 am]

BILLING CODE 6717-01-P